DEPARTMENT OF THE INTERIOR

Bureau of Indian Affairs

[212A2100DD/AAKC001030/A0A51010.999900]

Proclaiming Certain Lands as Reservation for the Lower Elwha Tribal Community of Washington

AGENCY: Bureau of Indian Affairs, Interior.

ACTION: Notice of reservation proclamation.

SUMMARY: This notice informs the public that the Assistant Secretary—Indian Affairs proclaimed approximately 559.203 acres, more or less, an addition to the reservation of the Lower Elwha Tribal Community.

DATES: This proclamation was made on January 14, 2021.

FOR FURTHER INFORMATION CONTACT: Ms. Sharlene M. Round Face, Bureau of Indian Affairs, Division of Real Estate Services, 1001 Indian School Road NW, Room 319, Albuquerque, NM 87104, (505) 563-3132, sharlene.roundface@bia.gov.

SUPPLEMENTARY INFORMATION: This notice is published in the exercise of authority delegated by the Secretary of the Interior to the Assistant Secretary—Indian Affairs by part 209 of the Departmental Manual.

A proclamation was issued according to the Act of June 18, 1934 (48 Stat. 984; 25 U.S.C. 5110) for the lands described below. The land was proclaimed to be the Lower Elwha Reservation for the Lower Elwha Tribal Community, Clallam County and State of Washington.

Lower Elwha Reservation for the Lower Elwha Tribal Community, 16 Parcels, Willamette Meridian, Clallam County, Washington Legal descriptions containing 559.203 Acres, More or Less

125-T1003

That portion of Lot 1 of Survey recorded in Volume 10 of Surveys, page 87, under Clallam County recording 563573, being a portion of Government Lot 2, and being a portion of the Southeast Quarter of the Northeast Quarter of Section 33, Township 31 North, Range 7 West, W.M., Clallam County, Washington, described as follows: Commencing at a ⅜″ rebar with surveyor's plastic cap stamped “LS 18104” marking the most Northerly corner of said Lot 1 as shown on said survey; thence South 57°38′11″ West along the Northerly line of said Lot 1, a distance of 22.05 feet to the Point of Beginning.

Thence South 32°21′49″ East parallel with the Easterly line of said Lot 1, a distance of 91.75 feet; thence South 53°28′52″ West 137.51 feet; thence South 57°53′14″ West 87.57 feet; thence South 52°20′22″ West 222.445 feet to the most Westerly line of said Lot 1; thence North 48°26′00″ West along said line 22.78 feet to the most Westerly corner of said Lot 1 and the most Southerly corner of the “Cemetery” as shown on said survey; thence North 57°38′11″ East along the common boundary of said Lot 1 and said Cemetery, a distance of 299.73 feet to the most Easterly corner of said Cemetery; thence North 32°21′49″ West along the common boundary of said Lot 1 and said Cemetery, a distance of 99.98 feet to the most Northerly corner of said Cemetery; thence North 57°38′11″ East along the most Northerly line of said Lot 1, a distance of 152.795 feet to the Point of Beginning.

Containing 0.404 acres, more or less.

125-T1004

That portion of Lot 2 of survey recorded in Volume 10 of Surveys, page 87 under Clallam County Recording No. 563573, being a portion of Government Lot 2 and being a portion of the Southeast Quarter of the Northeast Quarter of Section 33, Township 31 North, Range 7 West, Willamette Meridian, Clallam County, Washington, except that portion conveyed to the United States of America in trust for the Lower Elwha Klallam Tribe, as disclosed by Clallam County Auditor's File No. 604007.

Beginning at a ⅜″ rebar with surveyor's plastic cap stamped “LS 18104” marking the most Northerly corner of said Lot 2 as shown on said survey; thence North 57°38′11″ East along the Northerly line of said Lot 2, a distance of 114.11 feet to an existing fence as shown on said survey and described in Volume 811 of Deeds, Page 34 under Clallam County Recording Number 604007; thence South 23°29′03″ East along said fence 14.24 feet; thence continuing along said fence South 28°49′51″ East 21.95 feet; thence continuing along said fence South 24°03′19″ East 36.91 feet; thence continuing along said fence South 23°35′06″ east 25.83 feet; thence continuing along said fence South 27°11′20″ east 28.61 feet; thence South 50°03′12″ West 37.81 feet; thence South 58°37′43″ West 58.89 feet to the most Westerly line of said Lot 2; thence North 33°23′31″ West along said most Westerly line 130.52 feet to the Point of Beginning, containing 0.314 acre, more or less.

156-THC 4876 E

The Northwest Quarter of the Southeast Quarter of the Northeast Quarter of Section 4, Township 30 North, Range 7 West, Willamette Meridian, Clallam County, Washington, containing 10.16 acres, more or less.

156-T1159

The North Half of the Southeast Quarter of the Northeast Quarter of Section 34, Township 31 North, Range 7 West, Willamette Meridian, Clallam County, Washington, excepting the Westerly 132 feet thereof, and except those portions conveyed to the United States of America in Trust for the Lower Elwha Tribal Community of the Lower Elwha Reservation by instrument recorded September 2, 1988, under Auditor's File No. 607722, containing 18.9 acres, more or less.

156-T1167

The South ½ of the Southeast Quarter of the Northeast Quarter and the Southeast Quarter of the Southwest Quarter of the Northeast Quarter all in Section 34, Township 31 North, Range 7 West, W.M., Clallam County, Washington.

Containing 34.052 acres, more or less.

156-T1173

Parcel A

A portion of Government Lot 2 and the Southeast Quarter of the Northeast Quarter of Section 33, Township 31 North, Range 7 West, Willamette Meridian, Clallam County, Washington, known as the “Indian Cemetery of the Clallam Tribe of Indians”, as shown on the Plat of “the Place,” recorded in Volume 4 of Plats, page 34, Records of Clallam County, State of Washington. Containing 0.688 acres, more or less.

Parcel B

That portion of Government Lot 2 of Survey recorded in Volume 10 of Surveys, page 87, File No. 563573, lying Northerly and Easterly of the existing fence as shown on the most Northerly portion of Lots 2 on said Survey. Said property being in Government Lot 2 and the Southeast Quarter of the Northeast Quarter of Section 33, Township 31 North, Range 7 West, Willamette Meridian, Clallam County, Washington. Containing 0.105 acres, more or less.

Containing a total of 0.793 acres, more or less.

156-T1174

Parcel A

Lots 1 through 44, inclusive of survey, recorded January 13, 1992 in Volume 23 of Surveys, Page 2 under Clallam County Recording No. 662568, being a portion of Sections 2 and 3, Township 30 North, Range 7 West, and a portion of Sections 34 and 35, Township 31 North, Range 7 West, Willamette Meridian, Clallam County, Washington.

Parcel B

That portion of Government Lot 4 in Section 2, Township 30 North, Range 7 West, Willamette Meridian, Clallam County, Washington; lying Southeasterly of 150 foot wide tract conveyed to the City of Port Angeles by deed recorded under Auditor's File No. 190255; except former Seattle, Port Angeles and Lake Crescent Railroad Right of Way, as conveyed by deed recorded under Auditor's File No. 63188.

Parcel C

Two strips of land lying within the following described parcel:

The Southeast Quarter of the Southeast Quarter; and the South 15 acres of the Northeast Quarter of the Southeast Quarter, Section 34, Township 31 North, Range 7 West, Willamette Meridian, Clallam County, Washington. One of the aforementioned strips (Levee) is bounded by a line lying at various distances to the right (Riverward) and left (Landward) of a centerline described as follows: Commencing at the Quarter Corner Common to Sections 34 and 35 of Township 31 North, Range 7 West, Willamette Meridian, Clallam County, Washington; thence South 41°51′09″ West 1,046.95 feet to Engineer's Station (Sta) 74+68.91 PT on the Centerline of the Elwha Levee; thence South 6°03′10″ East, 906.86 feet to Sta 83+75.77 PC and the beginning of a curve concave westerly; thence along said curve having a radius of 320.00 feet for an arc distance of 62.79 feet to Sta 84+38.56 PT; thence South 5°11′26″ West, 261.44 feet to Sta 87+00.00, from which Sta the Section corner common to Sections 34 and 35 bears South 50°02′50″ East 846.78 feet; thence continuing South 5°11′26″ West along the levee centerline 20.00 feet to the terminus at Sta 87+20.00.

The distances in feet of the right and left sideline of said described strip from the foregoing described centerline are as tabulated below:

Distance in Feet
Station (Sta) | Right (riverward) | Left (landward)
59+95.00 | 26 | 33
86+00.00 | 26 | 33
86+00.00 | 26 | 65
87+20.00 | 26 | 65

Also a strip for ramp purposes described as follows:

Commencing at the Southeast Corner of said Section 34; thence North 24°27′03″ West, 1,319.07 feet to Sta 81+45.00 on the Elwha Levee Centerline; thence North 83°56′50″ East along the Westerly extension of a ramp centerline, 100 feet to the Point of Beginning; thence returning along said centerline, South 83°56′50″ West, over and across the Levee, 200 feet to the terminus, except therefrom that portion lying within the Elwha Levee permanent easement, containing 243.02 acres, more or less, in Clallam County, State of Washington.

156-T1181

The West Half of the Southwest Quarter of the Northeast Quarter; and the West 132 feet of the Northwest Quarter of the Southeast Quarter of the Northeast Quarter, except the portion lying within the following described tract:

Beginning at a point in the westerly line of said Southeast Quarter of the Northeast Quarter, a distance of 198 feet South of the Northwest corner thereof, thence East 132 feet; thence South parallel with the Westerly line of said Southeast Quarter of the Northeast Quarter, a distance of 462 feet; thence West 132 feet to the Westerly line of said Southeast Quarter of the Northeast Quarter; thence North along said Westerly line, a distance of 462 feet to the point of beginning, all being in Section 34, Township 31 North, Range 7 West, W.M., Clallam County, Washington, containing 23.24 acres, more or less.

The Northeast Quarter of the Northwest Quarter of Section 34, Township 31 North, Range 7 West, W.M., Clallam County, Washington, containing 41.48 acres, more or less. Commencing at the Southwest corner of Government Lot 2, Section 27, Township 31 North, Range 7 West, W.M., Clallam County, Washington; thence running North and parallel with the East line of said Section a distance of 205 feet; thence East at right angles with said Section line a distance of 1,062.5 feet; thence South at a parallel with the East section line a distance of 205 feet; thence running West along the South line of said Government Lot 2 to the point of beginning, containing 5.00 acres, more or less.

and

That portion of Lot 2 in Section 27, Township 31 North, Range 7 West, W.M., Clallam County, Washington, described as follows:

Beginning at the Southwest corner of said Lot 2; thence North along the West line of said Lot 990 feet; thence East at right angles 1,062.5 feet; thence South at right angles 990 feet to the South line of said Lot 2; thence West along said South line 1,062.5 feet to the point of beginning. Except the South 205 feet thereof. Also except any portion lying within the right-of-way for County Road No. 3131 (Lower Elwha Road), containing 19.12 acres, more or less, after the above exceptions.

Total Tract Acres: 88.84.

157-T1184

Parcel A

That portion of the East Half of the Southeast Quarter of the Northwest Quarter in Section 35, Township 31 North, Range 7 West, W.M., described as follows: Commencing at the Northwest Corner of the East Half of the Southeast Quarter of the Northwest Quarter of Section 35, Township 31 North, Range 7 West, W.M., Clallam County, Washington;

Thence South 02°59′45″ West, a distance of 506.44 feet, more or less, to the True Point of Beginning, being the Northwest Corner of the property herein described;

Thence South 87°00′14″ East, a distance of 75.00 feet, more or less, to a point being the Northeast Corner of the property herein described;

Thence South 02°59′45″ West, a distance of 405.80 feet, more or less, to the Northern right of way line of Lower Elwha Road and the Southeast Corner of the property herein described;

Thence along a curve to the right with a chord bearing North 38°25′04″ West, a distance of 113.38 feet (R=542.93′, L=113.59′ D=11°59′15″) to a point being the Southwest Corner of the property herein described;

Thence leaving Elwha Road, North 02°59′45″ East, a distance of 320.77 feet, more or less, to the point of beginning; containing 27,471 square feet of .63 acres, more or less, lying and being in the East Half of the Southeast Quarter of the Northwest Quarter of Section 35, Township 31 North, Range 7 West, Clallam County, Washington, being a parcel out of lands conveyed to American Telephone and Telegraph Company from Elmer Bond, et al, by Statutory Warranty Deed dated the 15th day of June 1955 and recorded in Volume 237, page 84 of the Land Records of Clallam County, Washington.

Parcel B

Lot 1 of P.N.B. Angeles Point Short Plat, recorded December 29, 1983 in Volume 13 of Short Plats, page 74, under Clallam County Recording No. 550528, of Section 35, Township 31 North, Range 7 West, W.M., Clallam County, Washington, more particularly described by Clallam County Auditor's File No. 2001 1061706. Except that portion conveyed to the Lower Elwha Klallam Tribe by instrument recorded under Clallam County Auditor's File No. 686772 and except that portion, if any, lying Southerly of County Road Right of Way.

Situate in Clallam County, State of Washington.

Containing 87.26 acres, more or less.

157-T1187

Lot 1 of Peninsula Timber Short Plat, recorded January 16, 1986 in Volume 16 of Short Plats, Page 10 under Auditor File No. 574157, being a portion of the Southwest Quarter of Section 12 and the Northwest Quarter of Section 13, all in Township 30 North, Range 7 West, W.M., Clallam County, Washington, subject to easement recorded under Recording No. 74700, containing 1.04 acres, more or less.

157-T1190

That Portion of Section 33, Township 31 North, Range 7 West, W.M., Clallam County, Washington described as follows:

Commencing at a point at which the existing Boundary Line between Lots 10 and 11 of Block 2 of the Place, as per plat thereof recorded in Volume 4 of Plats, Page 34, records of Clallam County, when extended and prolonged to the Southeast, Intersects the Southerly Boundary Line of the existing traveled road, as the same is now in use and operation, and which point is distant South 40° East of the Southerly corner common to said Lots 10 and 11, 73 feet, more or less;

Thence North 40° East, a distance of 52 feet;

Thence South 35° East, a distance of 209 feet;

Thence South 55° West, a distance of 100 feet;

Thence North 35° West, a distance of 195 feet;

Thence North 50° East, a distance of 50.5 feet, more or less, to the Point of Beginning.

Situate in Clallam County, State of Washington.

Containing 0.46 acre, more or less.

157-T1192

Lot B of Short Plat Alteration No. LDV 2004-00070, recorded June 20, 2005 in Volume 31 of Short Plats, page 34, under Clallam County Recording No. 2005 1158846, being a Short Plat Alteration of Lots 1 and 2 of Peninsula Timber Short Plat, recorded January 16, 1986 in Volume 16 of Short Plats, page 10, under Clallam County Recording No. 574157 in Section 12 and that Portion of the Northwest Quarter of the Northwest Quarter of Section 13, Township 30 North, Range 7 West, W.M., Clallam County, Washington, lying Northerly of the State Highway 101, formerly known as Olympic Highway.

Situate in Clallam County, State of Washington.

Containing 37.68 acres, more or less.

157-T1201

Parcel A

That portion of the North Half of the Southwest Quarter of the Southeast Quarter of Section 12, Township 30 North, Range 7 West, W.M., Clallam County, Washington, lying Westerly of Dry Creek;

Except the North 214.5 feet thereof.

Parcel B

That part of the South Half of the Southwest Quarter of the Southeast Quarter of Section 12, Township 30 North, Range 7 West, W.M., Clallam County, Washington, lying Northerly of Primary State Highway No. 9;

Except the East 220 feet (as measured along the North Boundary of said South Half of the Southwest Quarter of the Southeast Quarter;

And Except the West 30 feet for County Road No. 31870 (Dry Creek) Road.

And Except that portion conveyed to State of Washington under Recording No. 733756. And Except that portion conveyed to State of Washington under Recording No. 1999 1023011.

Also Excepting that portion conveyed to Richard V. Davidson and Beverly Davidson more particularly described as follows:

Beginning at the Northeast Corner of Parcel “C” as described in Special Warranty Deed File under Volume 1084 of Deeds, Page 705, Auditor's File No. 718619, Records of Said County.

Thence North 87°01′33″ West along the North line of said Parcel “C” a distance of 66.39 feet to the centerline of Dry Creek.

Thence South 33°45′25″ West along said centerline 26.45 feet;

Thence South 32°39′15″ West along said centerline 67.92 feet;

Thence South 40°45′16″ East along said centerline 49.28 feet;

Thence South 27°31′28″ East along said centerline 51.42 feet;

Thence South 26°37′28″ West along said centerline 54.41 feet;

Thence South 23°05′30″ West along said centerline 23.39 feet;

To the Northerly right of way of Highway 101 per plans entitled “SR 101 Laird's Corner to Port Angeles” dated February 19, 1929 and revised October 13, 1995;

Thence North 83°39′55″ East along said right of way 88.515 feet to the Southeast corner of said Parcel “C”;

Thence North 01°54′26″ east along the East Line of said Parcel “C” 219.17 feet to the Point of Beginning.

Situate in Clallam County, State of Washington.

Containing 15.69 acres, more or less.

157-T1204

Lot B of Lower Elwha Klallam Tribe/Waddell Survey, recorded July 15, 2005 in Volume 58 of Surveys, page 41, under Clallam County Recording No. 2005 1160576, being a portion of the Northwest Quarter of the Northwest Quarter of Section 35, Township 31 North, Range 7 West, W.M., Clallam County, Washington.

All that portion of Stratton Road, County Road No. 31690 lying within the West Half of Section 35 and the East Half of Section 34, all in Township 31 North, Range 7 West, W.M., Clallam County, Washington;

Except any portion thereof lying within the northerly 30 feet of said Sections.

That portion of the Southwest Quarter of the Northwest Quarter of Section 35, Township 31 North, Range 7 West, W.M., Clallam County, Washington, described as follows:

Beginning at the Northwest Corner of the Southwest Quarter of the Northwest Quarter of said Section 35;

Thence East 30 feet;

Thence South 240 feet;

Thence West 30 feet;

Thence North along the West line 240 feet to the Point of Beginning.

Situate in Clallam County, State of Washington.

Containing 2.49 acres, more or less.

157-T1206

Lot 3 of Volume 27 of Short Plats, Page 15;

Together with all of Lot 7 of Volume 12 of Surveys, page 114,

Together with that portion of the Southeast Quarter of the Northwest Quarter of Section 2, Township 30 North, Range 7 West, W.M., Clallam County, Washington, described as follows:

Commencing at the North Quarter corner of said Section 2 from which the center of Section 2 bears South 01°54′20″ West, a distance of 2733.58 feet as shown on Volume 40 of Surveys, page 27, Records of Clallam County;

Thence South 01°54′20″ West, a distance of 1370.20 feet to the Northeast Corner of said Southeast Quarter;

Thence South 89°04′22″ West along the North line of said Southeast Quarter, a distance of 655.30 feet to the True Point of Beginning, said point also being the Southeast corner of Parcel 7 as shown on Volume 12 of Surveys, Page 114;

Thence South 59°52′50″ East, a distance of 499.69 feet to the Northerly line of the 100 foot wide former railroad right-of-way;

Thence Northwesterly along said Northerly line to the North line of said Southeast Quarter;

Thence North 89°04′22″ East along said North line, a distance of 189.02 feet to the True Point of Beginning, containing 22,905 square feet, more or less.

Situate in Clallam County, State of Washington.

Containing 8.79 acres, more or less.

157-T1227

All that portion of the following described tract lying southerly of the right of way of the Chicago, Milwaukee, St. Paul and Pacific Railway;

Beginning at a point on the East line of the Southeast Quarter of the Northeast Quarter of Section 2, Township 30 North, Range 7 West, W.M., Clallam County, Washington, 792 feet South of the Northeast Corner thereof;

Thence South along said East line 264 feet;

Thence West 660 feet;

Thence North 264 feet;

Thence East 660 feet to the Point of Beginning;

And

All that portion of the East half of the Southwest Quarter of the Southeast Quarter of the Northeast Quarter, and of the South four acres of the Southeast Quarter of the Southeast Quarter of the Northeast Quarter of Section 2, Township 30 North, Range 7 West, W.M., Clallam County, Washington, lying Southerly of the right of way of the Chicago, Milwaukee, St. Paul and Pacific Railway.

Situate in Clallam County, State of Washington.

The East half of the Northeast Quarter of the Northeast Quarter of the Southeast Quarter of Section 2, Township 30 North, Range 7 West, W.M., Clallam County, Washington.

Situate in Clallam County, State of Washington.

Containing 9.31 acres, more or less.

The above described lands contain a total of 559.203 acres, more or less, which are subject to all valid rights, reservations, rights-of-way, and easements of record.

This proclamation does not affect title to the lands described above, nor does it affect any valid existing easements for public roads, highways, public utilities, railroads and pipelines, or any other valid easements or rights-of-way or reservations of record.

Bryan Newland,
Principal Assistant Secretary—Indian Affairs.

[FR Doc. 2021-09551 Filed 5-5-21; 8:45 am]

BILLING CODE 4337-15-P